INTERNATIONAL TRADE COMMISSION

[Investigation No. 731-TA-282 (Second Review)]

Petroleum Wax Candles From China

AGENCY: United States International Trade Commission.

ACTION: Revised schedule for the subject five-year review.

EFFECTIVE DATE: April 21, 2005.

FOR FURTHER INFORMATION CONTACT: Vincent Honnold (202-205-3314), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On January 14, 2005, the Commission established a schedule for the conduct of the subject five-year review (70 FR 3224, January 21, 2005). The Commission hereby gives notice that it is revising the schedule for its final determination in the subject five-year review.

The activities of the Commission's schedule that are revised are as follows: the prehearing staff report will be placed in the nonpublic record and released to the parties on May 5, 2005; prehearing briefs are due May 16, 2005; requests to appear at the hearing are due May 17, 2005; the prehearing conference (if necessary) will be held on May 19, 2005; the hearing will be held on May 25, 2005; and posthearing briefs are due June 3, 2005.

For further information concerning this review investigation see the Commission's notice cited above and the Commission's Rules of Practice and Procedure, part 201, subparts A through E (19 CFR part 201), and part 207, subparts A and C (19 CFR part 207).

Authority: This five-year review is being conducted under authority of title VII of the Tariff Act of 1930; this notice is published pursuant to § 207.21 of the Commission's rules.

Issued: April 21, 2005.
By order of the Commission.
Marilyn R. Abbott,
Secretary to the Commission.

[FR Doc. 05-8361 Filed 4-26-05; 8:45 am]

BILLING CODE 7020-02-P